OFFICE OF THE UNITED STATES TRADE REPRESENTATIVE

[Docket No. WTO/DS-221]

WTO Dispute Settlement Proceeding Regarding Section 129(c)(1) of the Uruguay Round Agreements Act

AGENCY: Office of the United States Trade Representative.

ACTION: Notice; request for comments.

SUMMARY: The Office of the United States Trade Representative (USTR) is providing notice that on July 12, 2001, Canada requested the establishment of a WTO dispute settlement panel to examine Section 129(c)(1) of the Uruguay Round Agreements Act. USTR invites written comments from the public concerning the issues raised in this dispute.

DATES: Although USTR will accept any comments received during the course of the dispute settlement proceedings, comments should be submitted on or before September 15, 2001 to be assured of timely consideration by USTR.

ADDRESSES: Submit comments to Sandy McKinzy, Monitoring and Enforcement Unit, Office of the General Counsel, Room 122, Office of the United States Trade Representative, 600 17th Street, NW., Washington, DC 20508, Attn: Section 129(c)(1) dispute. Telephone: (202) 395-3592.

FOR FURTHER INFORMATION CONTACT: David J. Ross, Associate General Counsel, Office of the United States Trade Representative, 600 17th Street, NW., Washington, DC (202) 395-3581.

SUPPLEMENTARY INFORMATION: Section 127(b) of the Uruguay Round Agreements Act (URAA) (19 U.S.C. 3537(b)(1)) requires that notice and opportunity for comment be provided after the United States submits or receives a request for the establishment of a WTO dispute settlement panel. If a dispute settlement panel is established pursuant to the WTO Dispute Settlement Understanding (DSU), such panel, which would hold its meetings in Geneva, Switzerland, would be expected to issue a report on its findings and recommendations within six to nine months after it is established.

Major Issues Raised by Canada

Section 129(c)(1) of the URAA (19 U.S.C. 3538(c)(1)) is provision of U.S. law that addresses the treatment of unliquidated entries of subject merchandise in situations where the United States responds to a WTO panel decision by revoking a U.S. antidumping or countervailing duty order. In its panel request, Canada describes its claims against Section 129(c)(1) in the following manner:

The measure at issue is Section 129(c)(1) of the URAA (19 U.S.C. 3538(c)(1)). In situations in which the DSB has ruled that an antidumping or countervailing duty determination is inconsistent with the obligations of the United States under the AD Agreement or the SCM Agreement and the United States Trade Representative directs the U.S. Department of Commerce to implement a new determination, section 129(c)(1) of the URAA requires that the new determination shall apply only to entries of imports that are entered or withdrawn from warehouse for consumption on or after the date on which the United States Trade Representative directs the Department of Commerce to implement the new determination. Pursuant to section 129(c)(1), and as confirmed by the Statement of Administrative Action accompanying the URAA (H.R. Doc. No. 103-316. at page 1026 (1994)), unliquidated entries of imports that entered or were withdrawn from warehouse for consumption prior to that date (“prior unliquidated entries”) remain subject to assessment of duties pursuant to the original antidumping or countervailing duty determination, notwithstanding the adverse DSB ruling and notwithstanding that a final determination assessing those duties will be made after the date fixed for compliance in accordance with the DSU.

Accordingly, section 129(c)(1) of the URAA requires that the Department of Commerce make determinations in future administrative reviews to assess duties on prior unliquidated entries pursuant to the original antidumping or countervailing duty determination notwithstanding that such determination has been found to be not in conformity with the AD Agreement or the SCM Agreement. Section 129(c)(1) requires that the United States make duty assessments in a manner that the DSB has ruled to be inconsistent with the requirements of Article VI of the GATT 1994 or the AD Agreement and the SCM Agreement.

Canada asserts on these grounds that Section 129(c)(1) is inconsistent with Articles VI:2, VI:3 and VI:6(a) of the GATT 1994; Articles 10, 19.4, 21.1, 32.1 and 32.5 of the SCM Agreement; and Articles 1, 9.3, 11.1, 18.1 and 18.4 of the AD Agreement. Canada further claims that:

Article 18.4 of the AD Agreement, Article 32.5 of the SCM Agreement and Article XVI:4 of the Marrakesh Agreement Establishing the World Trade Organization (“WTO Agreement”) require a Member to bring its laws, regulations and administrative procedures into conformity with its WTO obligations. The DSU . . . provides that a Member found in breach of its WTO obligations is to comply immediately or, where that is not practicable, within the reasonable period of time as determined under Article 21.3. With respect to determinations made after the date fixed for compliance and insofar as such determinations affect entries prior to that date, section 129(c)(1) precludes the United States from complying with a DSB ruling. This prevents rather than ensures compliance by the United States with its WTO obligations.

On these grounds, Canada asserts that Section 129(c)(1) is consistent with Article 18.4 of the AD Agreement; Article 32.5 of the SCM Agreement, Article XVI:4 of the WTO Agreement; and DSU Articles 3.2, 3.7, 19.1, 21.1, and 213.

Public Comment: Requirement for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1)Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room, which is located at 1724 “F” St., N.W., Washington, DC 20508. The public file will include a listing of any comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/DS-221, Section 129(c)(1) dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 01-19870 Filed 8-7-01; 8:45 am]

BILLING CODE 3190-01-M